DEPARTMENT OF TRANSPORTATION

Federal Aviation Administration

Notice of Intent To Rule on Application 04-07-C-00-EYW To Impose and Use the Revenue From a Passenger Facility Charge (PFC) at Key West International Airport, Key West, FL

AGENCY: Federal Aviation Administration (FAA), DOT.

ACTION: Notice of intent to rule on application.

SUMMARY: The FAA proposes to rule and invites public comment on the application to impose and use the revenue from a PFC at Key West International and use the revenue from a PFC at Florida Keys Marathon Airports under the provisions of the 49 U.S.C. 40117 and part 158 of the Federal Aviation Regulations (14 CFR part 158).

DATES: Comments must be received on or before January 30, 2004.

ADDRESSES: Comments on this application may be mailed or delivered in triplicate to the FAA at the following address: Orlando Airports District Office, Suite 400, 5950 Hazeltine National Drive, Orlando, FL 32822.

In addition, one copy of any comments submitted to the FAA must be mailed or delivered to Mr. Peter Horton, Director of Airports of the Monroe County Board of County Commissioners at the following address: Key West International Airport, 3491 S. Roosevelt Boulevard, Key West, Florida 33040.

Air carriers and foreign air carriers may submit copies of written comments previously provided to the Monroe County Board of County Commissioners under § 158.23 of part 158.

FOR FURTHER INFORMATION CONTACT: Ms. Susan Moore, Program Manager, Orlando Airports District Office, Suite 400, 5950 Hazeltine National Drive, Orlando, FL 32822, (407) 812-6331.

The application may be reviewed in person at this same location.

SUPPLEMENTARY INFORMATION: The FAA proposes to rule and invites public comment on the application to impose and use the revenue from a PFC Key West International and Florida Keys Marathon Airports under the provisions of the 49 U.S.C. 40117 and part 158 of the Federal Aviation Regulations (14 CFR part 158).

On December 18, 2003, the FAA determined that the application to impose and use the revenue from a PFC submitted by Monroe County Board of County Commissioners was substantially complete within the requirements of section 158.25 of part 158. The FAA will approve or disapprove the applications, in whole or in part, no later than April 1, 2004.

The following is a brief overview of the application.

Proposed charge effective date: May 1, 2004.

Proposed charge expiration date: January 1, 2006.

Level of the proposed PFC: $4.50.

Total estimated PFC revenue: $1,437,200.

Brief description of proposed project(s): PFC Application and Administration, THangar Taxiways and Apron, New Terminal Development, Noise Improvement Program Design and Construction—Phase 3 (50 Homes), Noise Contour Update #4, Runway Safety Area Environmental Impact Study Design and Construction—Phase 1, Runway 9/27 Drainage Construction, Aprons Sealcoat Design, Rehabilitate Airport Beacon and Tower, Disadvantage Business Enterprise Program Implementation, Ground Vehicle Operations Video Training Equipment and Cargo Apron Rehabilitation (at Florida Keys Marathon). Class or classes of air carriers which the public agency has requested not be required to collect PFCs: ATCO filing FAA Form 1800-31 and CAC filing Form 298C T1 or E1.

Any person may inspect the application in person at the FAA office listed above under FOR FURTHER INFORMATION CONTACT and at the FAA regional Airports office located at: Southern Region Headquarters, 1701 Columbia Avenue, College Park, Georgia 30337.

In addition, any person may, upon request, inspect the application, notice and other documents germane to the application in person at the Monroe County Board of County Commissioners.

Issued in Orlando, Florida, Airports District Office on December 19, 2003.
W. Dean Stringer,
Manager, Orlando Airports District Office, Southern Region.

[FR Doc. 03-32091 Filed 12-30-03; 8:45 am]

BILLING CODE 4910-13-M